DEPARTMENT OF TRANSPORTATION

Federal Aviation Administration

Unmanned and Autonomous Flight Advisory Committee

AGENCY: Federal Aviation Administration (FAA), U.S. Department of Transportation (DOT).

ACTION: Notice; solicitation of nominations for membership.

SUMMARY: The Department solicits nominations for membership to serve on the Unmanned and Autonomous Flight Advisory Committee (UAFAC), which is intended to provide advice to the Secretary of Transportation through the FAA Administrator on policy and technical-level issues related to unmanned and autonomous aviation operations and activities.

DATES: The deadline for nominations for Committee members must be received on or before October 24, 2025.

ADDRESSES: Email all nomination materials to 9-FAA-UAFAC@faa.gov.

FOR FURTHER INFORMATION CONTACT: Gary Kolb, Analyst, Regulatory Planning Branch, Office of Rulemaking, 9-FAA-UAFAC@faa.gov, 202-267-4441.

SUPPLEMENTARY INFORMATION: UAFAC was established by the Secretary on January 14, 2025 pursuant to Section 916 of the FAA Reauthorization Act of 2024, Public Law 118-63, and in accordance with the Federal Advisory Committee Act, 5 U.S.C. ch. 10. The purpose of UAFAC is to provide advice on policy and technical-level issues related to unmanned and autonomous aviation operations and activities, including, at a minimum, the following:

a. The safe integration of unmanned aircraft systems and autonomous flight operations into the National Airspace System, including feedback on the following:

(1) The certification and operational standards of highly automated aircraft, unmanned aircraft, and associated elements of such aircraft; and

(2) Coordination of procedures for operations in controlled and uncontrolled Airspace, and communication protocols;

b. The use cases of unmanned aircraft systems, including evaluating and assessing the potential benefits of using unmanned aircraft systems;

c. The development of processes and methodologies to address safety concerns related to the operation of unmanned aircraft systems, including risk assessments and mitigation strategies;

d. Unmanned aircraft system training, education, and workforce development programs, including evaluating aeronautical knowledge gaps in the unmanned aircraft system workforce, assessing the workforce needs of unmanned aircraft system operations, and establishing a strong pipeline to ensure a robust unmanned aircraft system workforce;

e. The analysis of unmanned aircraft system data and trends; and

f. Unmanned aircraft system infrastructure, including the use of existing aviation infrastructure and the development of necessary infrastructure.

In addition, UAFAC will provide advice on equipping and enabling communities to be informed about how unmanned aircraft systems, autonomous aviation operations, and other technologies may operate in ways that are least impactful to those communities.

The Committee is chartered through January 14, 2027 and is subject to renewal every two years. The Committee is expected to meet an estimated three times a year. Unless otherwise required by law or approved by the Secretary, all meetings will be held virtually (or in a hybrid forum that does not require additional use of Federal funds).

In this notice, the Department is soliciting nominations for membership to the Committee. Members are appointed by the Secretary of Transportation. The Committee shall report to the Secretary of Transportation through the FAA Administrator. UAFAC comprises no more than 12 representative members from the following stakeholder groups:

(1) Commercial operators of unmanned aircraft systems;

(2) Unmanned aircraft system manufacturers;

(3) Counter-UAS manufacturers;

(4) FAA-approved unmanned aircraft system service suppliers;

(5) Unmanned aircraft system test ranges under section 44803 of title 49, United States Code;

(6) Unmanned aircraft system physical infrastructure network providers;

(7) Community advocates with safety, privacy, and noise interests related to unmanned and autonomous aviation operations and activities;

(8) Certified labor organizations representing commercial airline pilots, air traffic control specialists employed by the Administration, certified aircraft maintenance technicians, certified aircraft dispatchers, or aviation safety inspectors; and

(9) Academia or a relevant research organization.

Members will serve a 2-year term but may be reappointed. The Department is interested in ensuring membership is balanced fairly in terms of the points of view represented and the functions to be performed by the Committee.

Process and Deadline for Submitting Nominations: Qualified individuals can self-nominate or be nominated by any individual or organization. To be considered for UAFAC, nominators should submit the following information:

(1) Name, title, and relevant contact information (including phone, fax, and email address) of the individual requesting consideration.

(2) A letter of support from a company, union, trade association, academic, or nonprofit organization on letterhead containing a brief description of why the nominee should be considered for membership.

(3) A short biography of the nominee, including professional and academic credentials.

(4) An affirmative statement that the nominee meets all Committee eligibility requirements and identifies which stakeholder group they would represent.

Please do not send company, trade association, or organization brochures or any other information. Materials submitted should total two pages or less. Should more information be needed, DOT staff will contact the nominee, obtain information from the nominee's past affiliations, or obtain information from publicly available sources, such as the internet.

Nominations must be received before October 24, 2025. Nominees selected for appointment to the Committee will be notified by return email and by letter of appointment.

Issued in Washington, DC, on September 12, 2025.
Brandon Roberts,
Executive Director, Office of Rulemaking.

[FR Doc. 2025-18472 Filed 9-23-25; 8:45 am]

BILLING CODE 4910-13-P